DEPARTMENT OF HEALTH AND HUMAN SERVICES

Administration for Children and Families

Family Violence Prevention and Services Discretionary Grants

Federal Agency Contact Name: Administration for Children and Families (ACF), Administration on Children, Youth and Families, Family and Youth Services Bureau (FYSB), Family Violence Prevention and Services Program.

Funding Opportunity Title: FY 2004 Discretionary Grants for the Family Violence Prevention and Services Program.

Announcement Type: Initial.

Funding Opportunity Number: HHS-2004-ACF-ACYF-EV-0025.

CFDA Number: 93.592.

Due Date for Applications: The due date for receipt of applications is July 19, 2004.

I. Funding Opportunity Description

Demonstration of Improved Services Delivery to Victims of Family Violence Who are Disabled.

The Administration for Children and Families, Administration on Children, Youth and Families, Family Youth Services Bureau announces the availability and request for applications for its FY 2004 Family Violence Prevention and Services discretionary grants.

Legislative Authority

The Family Violence Prevention and Services Act (the Act) was originally enacted in sections 301-313 of Title III of the “Child Abuse Amendments of 1984” (Pub. L. 98-457, 10/9/84). The Act was reauthorized and otherwise amended by the “Child Abuse Prevention, Adoptions, and Family Services Act of 1988” (Pub. L. 100-294, 4/25/88); the “Child Abuse, Domestic Violence, Adoption, and Family Services Act of 1992” (Pub. L. 102-295, 5/28/92); the “Safe Homes for Women Act of 1994,” Subtitle B of the “Violent Crime Control and Law Enforcement Act of 1994” (Pub. L. 103-322, 9/13/94); and the “Child Abuse and Prevention Treatment Act Amendments of 1996” (Pub. L. 104-235, 10/3/96); and the “Victims of Trafficking and Violence Protection Act of 2000” (Pub. L. 106-386, 10/28/00). The Act was most recently amended by the “Keeping Children and Families Safe Act of 2003” (Pub. L. 108-36).

Purpose

The purpose of the priority area is to support the collaborative planning and development of innovative, comprehensive and replicable services for responding to violence against women and men with disabilities. Projects funded under this priority area will address the needs of disabled persons in order to remove the barriers they face to accessing safety and justice. It is anticipated that some of these grants will support the initial design of collaborative initiatives and some will support efforts presently underway at a State, tribal, county or local level.

Successful applicants will be required to demonstrate collaboration between recognized domestic violence service providers or state and tribal domestic violence coalitions and agencies providing services for, or involved with, the institution, maintenance and/or development of policy on the needs of persons with disabilities who have been abused. Collaborations may also include faith-based programs working with the disabled community.

Background

The definition of abuse is generally expanded in relation to its occurrence with persons with disabilities to include neglect leading to physical harm, abandonment, desertion or neglect of duties by a caregiver, or inappropriate language or intimidation. Both males and females with disabilities are at increased risk of abuse due to reliance on their caregivers. For a disabled person, there are unique dynamics to both the power and control issues present in all abusive relationships and the actual form that abuse can manifest. The complexity of the relationship between a person who is disabled and their partner is as multi-faceted as the types of disabilities existent and the possible degrees of severity of those disabilities. Disabled people are at risk for experiencing abuse that is specifically related to their disability support needs. The fear of not having their basic needs met when assistance is not provided, fear of institutionalization; the denial of the physical or emotional pain resulting from the disability are just some particulars to the abusive relationship. Removing the battery from a power wheelchair, putting a walker out of reach, or taking a phone away can be similar to locking that person in a closet.

Because many of these forms of abuse are little known and go unrecognized, abused persons with disabilities are isolated and underserved. With no appropriate red flags, service providers inadvertently create barriers to the disclosures of such abuse. Women, and men, who disclose that they have experienced abuse need to be further assessed for factors that may place them at increased risk. For the abused, these factors silently exacerbate if the appropriate assessment and safety planning that needs to be available is not put into place.

The ability to provide services that truly address the needs of the abused disabled person is reliant on, at minimum, providing service providers with supports that are tested and accepted for use with persons who are not disabled but supports that are informed and structured to address the physical, attitudinal and programmatic barriers of abused persons.

The development of intervention techniques such as domestic violence screening questions, case management and the establishment of policies and procedures that relate to and illuminate the interconnectedness of the disability and abuse would ensure and accelerate access to essential services. Projects will address the needs of persons with disabilities in order to remove the barriers they face through the enhancement of resource material, curricula and relevant products.

Minimum Requirements

Using the combined expertise of the domestic violence community and the community of persons with disabilities the project should:

• Propose major collaborations between domestic violence practitioners and disability organizations for the purpose of maximizing the ability of service providers to respond to a person who has the dual challenges of being abused and disabled. These collaborations should be supported through commitment and collaboration letters indicating the understanding and extent of the role of the organizations involved.

• Develop educational material that allows for recognition of abuse from both the victims’ and the domestic violence service provider's point of view. This material should clarify the nature of the abuse, validate the person's experience and address the abusive environment correctly.

• Develop succinct, disability specific materials, in an easily replicated, conveniently structured and distributable format describing best practices as to the detection and intervention of abuse among the disabled. for the use of service providers.

• Develop a product dissemination strategy by which this information could best be directed to organizations and institution for maximum application to disabled persons who might be experiencing abuse.

II. Award Information

Funding Instrument Type: Grant.

Anticipated Total Program Funding: $150,000 in FY2004.

Anticipated Number of Awards: 3.

Ceiling on Amount of Individual Awards: $50,000 per project period. An application received that exceeds the upper value of the dollar range specified will be considered “non-responsive” and be returned to the applicant without further review.

Floor of Individual Award Amounts: None.

Average Anticipated Award Amount: $50,000 per project period.

Project Period for Awards: This announcement invites applications for project periods up to 17 months.

III. Eligibility Information

1. Eligible Applicants

Eligible applicants include State and local agencies providing services to persons with disabilities, FVPSA State grantees, State domestic violence coalitions, Federally-recognized American Indian Tribes, public and private non-profit agencies, faith-based organizations, domestic violence advocacy organizations and public and private non profit disability organizations.

Additional Information on Eligibility

Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Applications exceeding the dollar ceiling will be considered non-responsive and returned to the applicant without further review. Applications that fail to include the required non-federal share will be considered non-responsive and returned to the applicant without further review.

2. Matching

Matching funds are required for applications submitted under this program announcement.

Grantees must provide at least 25 percent of the total approved cost of the project. The total approved cost of the project is the sum of the ACF share and the non-federal share. The non-federal share may be met by cash or in-kind contributions, although applicants are encouraged to meet their match requirements through cash contributions. For example, in order to meet the match requirements, a project with a total approved cost of $66,666, must provide a non-federal share of at least $16,666 (25% of total approved project cost of $66,666). Grantees will be held accountable for commitments of non-federal resources even if over the amount of the required match. Failure to provide the amount will result in disallowance of Federal funds.

Applications that fail to include the required amount of cost-sharing will be considered non-responsive and will not be eligible for funding under this announcement.

3. Other

All Applicants must have Duns & Bradstreet Number. On June 27, 2003, the Office of Management and Budget published in the Federal Register a new Federal policy applicable to all Federal grant applicants. The policy requires Federal grant applicants to provide a Duns and Bradstreet Data Universal Numbering System (DUNS) number when applying for Federal grants or cooperative agreements on of after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applications that fail to follow the required format will be considered non-responsive and will not be eligible for funding under this announcement.

Applications that fail to include the required amount of cost-sharing will be considered non-responsive and will not be eligible for funding under this announcement.

Applications that exceed the $50,000 ceiling will be considered non-responsive and will not be eligible for funding under this announcement.

IV. Application and Submission Information

1. Address To Request Application Package

ACYF Operations Center, c/o The Dixon Group, Inc., Attn: FV-FYSB Funding, 118 Q Street, NE., Washington, DC 20002-2132, FYSB@dixongroup.com, (866) 796-1591.

2. Content and Form of Application Submission

An original and two (2) copies of the application must be submitted. Applicants will not receive an acknowledgement of receipt of applications.

Applicants have the option of omitting from the application copies (not the original) specific salary rates or amounts for individuals specified in the application budget.

You may submit your application to us in either electronic or paper format.

To submit an application electronically, please use the www.Grants.gov apply site. If you use Grants.gov, you will be able to download a copy of the application package, complete it off-line, and then upload and submit the application via the Grants.gov site. You may not e-mail an electronic copy of a grant application to us. Please note the following if you plan to submit your application electronically via Grants.Gov.

• Electronic submission is voluntary.

• When you enter the Grants. Gov site, you will find information about submitting an application electronically through the site, as well as the hours of operation. We strongly recommend that you do not wait until the application deadline date to begin the application process through Grants. Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on www.Grants.gov.

• You must search for the downloadable application package by the CFDA number.

Private non-profit organizations are encouraged to submit with their applications the survey located under “Grant Related Documents and Forms” titled “Survey for Private, Non-Profit Grant Applicants” at http://www.acf.hhs.gov/programs/ofs/forms.htm. Submission or lack of submission will have no effect on an applicant's chance to receive a grant award.

3. Submission Dates and Times

The closing time and date for receipt of applications is 4:30 p.m. Eastern Standard Time (EST) on July 19, 2004. Mailed or hand carried applications received after 4:30 p.m. on the closing date will be classified as late.

Deadline: Mailed applications shall be considered as meeting an announced deadline if they are received on or before the deadline time and date at the Administration on Children, Youth and Families (ACYF) Operations Center, c/o The Dixon Group Inc., ATTN: FV-FYSB Funding, 118 Q Street, NE., Washington, DC 20002-2132. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, between Monday and Friday (excluding Federal holidays). This address must appear on the envelope/package containing the application with the note “Attention: Administration on Children, Youth and Families (ACYF) Operations Center, c/o The Dixon Group Inc., ATTN: FV-FYSB Funding, 118 Q Street, NE., Washington, DC 20002-2132.” Applicants are cautioned that express/overnight mail services do not always deliver as agreed.

ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. A determination to extend or waive deadline requirements rests with the Chief Grants Management Officer.

What to submit | Required content | Required form or format | When to submit
SF424, SF424a, SF424B | Per required form | May be found at www.acf.hhs.gov/program/ofs/forms.htm | By application due date.
Project Summary/Abstract | Summary of application request | One page limit | By application due date.
Project Description | Responsiveness to evaluation criteria | Format described in Review and Selection section. Limit 40 pages. Size 12 font, ½” margins. | By application due date.
Certification regarding Lobbying | Per required Form | May be found at www.acf.hhs.gov/program/ofs/forms.htm | By application due date.
Environmental Tobacco Smoke Certification | Per required Form | May be found at www.acf.hhs.gov/program/ofs/forms.htm | By application due date.

Additional Forms

Private non-profit organizations are encouraged to submit with their applications the survey located under “Grant Related Documents and Forms” titled “Survey for Private, Non-Profit Grant Applicants” at www.acf.hhs.gov/programs/ofs/forms.htm.

What to submit | Required content | Required form or format | When to submit
Survey for Private, Non-Profit Grant Applicants | Per Required Form | http://www.acf.hhs.gov/programs/ofs/form.htm | By application due Date.

4. Intergovernmental Review

State Single Point of Contact (SPOC)

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., and Washington, DC 20447.

The official list, including addresses, of the jurisdictions elected to participate in E.O. 12372 can be found on the following URL: http://www.whitehouse.gov/omb/grants/spoc.html.

5. Funding Restrictions

ACY will not fund any project where the role of the applicant is to serve as a conduit for funds to organizations other than the applicant. The applicant must have a substantive role in the implementation of the project for which the funding is requested. This prohibition does not bar the making of sub-grants or sub-contracting for specific services or activities needed to conduct the project.

Applicants that fail to include the required match will be considered non-responsive and will not be eligible for funding under this announcement.

6. Other Submission Requirements

Electronic Address to Submit Applications: www.Grants.Gov.

Please see Section IV. 2. Content and Form of Application Submission, for guidelines and requirements when submitting applications electronically.

V. Application Review Information

1. Criteria

The Paperwork Reduction Act of 1995 (Pub. L. 104-13)

Public reporting burden for this collection of information is estimated to average 25 hours per response, including the time for reviewing instructions, gathering and maintaining the data needed and reviewing the collection information. This program announcement does not contain information requirements beyond those approved for ACF grant applications under OMB control number 0970-0139. An agency may not conduct or sponsor, and a person is not required to respond to, a collection of information unless it displays a currently valid OMB control number.

The following are instructions on how to prepare the “project summary/abstract” and “Full Project Description” sections of the application. Note that each criterion is preceded by the generic evaluation requirement under the ACF Uniform Project Description (UPD).

Approach

Outline a plan of action describing how the proposed work will be accomplished. Account for all functions and activities described in the application and cite factors which might accelerate or decelerate your work, stating reasons for the approach you have taken. Describe any unusual features of the project such as design and or technological innovations, reductions in cost or time, or extraordinary social or community involvement.

Objectives and Need for Assistance

Clearly identify the problem(s) requiring a solution. The need for assistance must be demonstrated and the principal and subordinate objectives of the project must be clearly stated. Any relevant data should be included or referred to in the endnotes or footnotes. Demographic data and participant/beneficiary information should be included as needed.

Results or Benefits Expected

For example, describe how the increased collaboration between service agencies and their programs and the domestic violence service providers would make available an increase in effective services delivery and information to individuals who may find themselves in abusive situations.

Organizational Profiles

Provide information on the applicant organization(s) and cooperating partners, contact numbers and telephone numbers, documentation of experience in the program and other pertinent information. Any non-profit organization submitting an application must submit proof of its non-profit status in its application at the time of submission.

Budget and Budget Justification

Budget line item details and detailed calculations for each budget class identified on the budget information form. Detailed calculations must include estimation methods, quantities, unit costs where applicable, and other similar quantitative detail sufficient for the calculation to be duplicated. The detailed budget must include a breakout by the funding sources identified in Block 15 of the SF 424.

Evaluation Criteria

Approach (30 points)

The extent to which the application outlines a sound and workable plan of action pertaining to the scope of the project, and details how the proposed work will be accomplished; relates each task to the objectives and identifies the key staff member who will be the lead person; provides a chart indicating the timetable for completing each task, the lead person, and the time committed; cites factors which might accelerate or decelerate the work, giving acceptable reasons for taking this approach as opposed to others; describes and supports any unusual features of the project, such as design or technological innovations, reductions in cost or time, or extraordinary social and community involvement; and provides for projections of the accomplishments to be achieved.

The extent to which, when applicable, the application describes the evaluation methodology that will be used to determine if the needs identified and discussed are being met and if the results and benefits identified are being achieved.

Objectives and Need for the Project (20 Points)

The extent to which the need for the project and the problems it will address have national and local significance; the applicability of the project to coordination efforts by national, Tribal, State and local governmental and non-profit agencies, and its ultimate impact on domestic violence prevention services and intervention efforts, policies and practice; the relevance of other documentation as it relates to the applicant's knowledge of the need for the project; and the identification of the specific topic or program area to be served by the project. Maps and other graphic aids may be attached. The extent to which the specific goals and objectives have national or local significance, the clarity of the goals and objectives as they relate to the identified need for and the overall purpose of the project, and their applicability to policy and practice. The provision of a detailed discussion of the objectives and of the extent to which they are realistic, specific, and achievable.

Results and Benefits (20 Points)

The extent to which the application identifies the results and benefits to be derived, the extent to which they are consistent with the objectives of the application, the extent to which the application indicates the anticipated contributions to policy, practice, and theory, and the extent to which the proposed project costs are reasonable in view of the expected results. Identify, in specific terms, the results and benefits, for target groups and human service providers, to be derived from implementing the proposed project.

Organizational Profiles (15 Points)

The extent to which the participating organizations and entities have discussed, through letters and other documentation, the proposed collaboration and cooperation. Assess the extent to which the financial and physical resources provided by the participating entities will be adequate and to what extent will the coordinating organizations participate in the day to day operations of the project.

Budget (15 Points)

Relate the proposed budget to the level of effort required to obtain the project's objectives and provide a cost/benefit analysis. Demonstrate that the project's costs are reasonable in view of the anticipated results. Applications will be evaluated on the extent to which they include a budget that is concise and provides a detailed justification of the amount of Federal funds that are requested.

2. Review and Selection Process

Initial ACYF Screening

Each application submitted to ACYF will be screened to determine whether it was received by the closing date and time.

Applications received by the closing date and time will be screened for completeness and conformity with the following requirements. Only complete applications that meet the requirements listed below will be reviewed and evaluated competitively. Other applications will be returned to the applicants with a notation that they were unacceptable and will not be reviewed.

All applications must comply with the following requirements except as noted:

ACYF Evaluation of Applications

Applications that pass the initial ACYF screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The ACYF Commissioner and program staff use the reviewer scores when considering competing applications. Reviewer scores will weigh heavily in funding decisions, but will not be the only factors considered.

Applications generally will be considered in order of the average scores assigned by the review panel. Because other important factors are taken into consideration, highly ranked applications are not guaranteed funding. These other considerations include, for example: The timely and proper completion by the applicant of projects funded with ACYF funds granted in the last five (5) years; comments of reviewers and government officials; staff evaluation and input; amount and duration of the grant requested and the proposed project's consistency and harmony with ACYF goals and policy; geographic distribution of applications; previous program performance of applicants; compliance with grant terms under previous HHS grants, including the actual dedication to program of mobilized resources as set forth in project applications; audit reports; investigative reports; and applicant's progress in resolving any final audit disallowance on previous ACYF or other Federal agency grants.

VI. Award Administration Information

1. Award Notices

The successful applicants will be notified through the issuance of a Financial Assistance Award document which sets forth the amount of funds, granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements:

45 CFR part 74 or 92.

3. Reporting Requirements

Programmatic Reports: Semi-annually and a final report is due 90 days after the end of the grant period.

Financial Reports: Semi-annually and a final report due 90 days after the end of the grant period.

All grantees are required to submit semi-annual program reports; grantees are also required to submit semi-annual financial status reports using the required financial standard form (SF-269). A format for the program report will be sent to all grantees after the awards are made.

VII. Agency Contacts

Program Office Contact: William D. Riley, Family Violence Division, 330 C Street, Rm. 2117, Switzer Building, Washington, DC 20447, E-mail: wriley@acf.hhs.gov, Telephone: (202) 401-5529.

Grants Management Office Contact: William Wilson, Grants Officer, Administration on Children, Youth and Families, Room 2070 Switzer Building, 330 C Street, SW., Washington, DC 20447, (202) 205-8913, E-mail: wwilson@acf.hhs.gov.

VIII. Other Information

Additional information about this program and its purpose can be located on the following Web site: http://www.acf.hhs.gov/programs/fysb.

Dated: June 9, 2004.
Frank Fuentes,
Deputy Commissioner, Administration on Children, Youth and Families.

[FR Doc. 04-13736 Filed 6-17-04; 8:45 am]

BILLING CODE 4184-01-P